NATIONAL AERONAUTICS AND SPACE ADMINISTRATION

[Notice (11-034)]

National Environmental Policy Act; Sounding Rockets Program; Poker Flat Research Range

AGENCY: National Aeronautics and Space Administration.

ACTION: Notice of intent to prepare an Environmental Impact Statement (EIS) and to conduct scoping for continuing sounding rocket operations at Poker Flat Research Range (PFRR), Alaska.

SUMMARY: Pursuant to the National Environmental Policy Act, as amended, (NEPA) (42 U.S.C. 4321 et seq.), the Council on Environmental Quality Regulations for Implementing the Procedural Provisions of NEPA (40 CFR parts 1500-1508), and NASA's NEPA policy and procedures (14 CFR part 1216, subpart 1216.3), NASA intends to prepare an EIS for its continued use of the University of Alaska-Fairbanks (UAF) owned and managed PFRR, outside of Fairbanks, Alaska. The U.S. Fish and Wildlife Service (USFWS), Bureau of Land Management (BLM), and UAF will serve as Cooperating Agencies as they possess both regulatory authority and specialized expertise regarding the Proposed Action that will be the subject of the EIS.

The purpose of this notice is to apprise interested agencies, organizations, tribal governments, and individuals of NASA's intent to prepare the EIS and to request input regarding the definition of reasonable alternatives and significant environmental issues to be evaluated in the EIS.

In cooperation with BLM, UAF, and USFWS, NASA will hold public scoping meetings as part of the NEPA process associated with the development of the EIS. The scoping meeting locations and dates identified at this time are provided under SUPPLEMENTARY INFORMATION below.

DATES: Interested parties are invited to submit comments on environmental issues and concerns, preferably in writing, on or before June 1, 2011, to assure full consideration during the scoping process.

ADDRESSES: Comments submitted by mail should be addressed to Joshua Bundick, Manager, Poker Flat Research Range EIS, NASA Goddard Space Flight Center's Wallops Flight Facility, Wallops Island, Virginia 23337. Comments may be submitted via e-mail to Joshua.A.Bundick@nasa.gov.

FOR FURTHER INFORMATION CONTACT: Joshua Bundick, Manager, Poker Flat Research Range EIS, NASA Wallops Flight Facility, Wallops Island, Virginia 23337; telephone (757) 824-2319; e-mail: Joshua.A.Bundick@nasa.gov. Additional information about NASA's Sounding Rocket Program (SRP) and the University of Alaska-Fairbanks' PFRR may be found on the internet at http://sites.wff.nasa.gov/code810 and http://www.pfrr.alaska.edu, respectively. Information regarding the NEPA process for this proposal and supporting documents (as available) are located at http://sites.wff.nasa.gov/code250/pfrr_eis.html.

SUPPLEMENTARY INFORMATION:

Programmatic Background

NASA's SRP, based at the Goddard Space Flight Center's Wallops Flight Facility (WFF), supports the NASA Science Mission Directorate's strategic vision and goals for understanding the phenomena affecting the past, present, and future of Earth and the solar system and supports the Agency's educational mission. The suborbital missions enabled by the SRP provide researchers with opportunities to build, test, and fly new instrument concepts while simultaneously conducting world class scientific research. With its hands-on approach to mission formulation and execution, the SRP also helps ensure that the next generation of space scientists receives the training and experience necessary to move on to NASA's larger, more complex missions.

Launch Sites

Sounding rockets can be launched from permanently established ranges or from temporary launch sites using NASA's mobile range assets. Permanent ranges include WFF in Wallops Island, Virginia; PFRR near Fairbanks, Alaska; White Sands Missile Range (WSMR) in White Sands, New Mexico; Kwajalein Island, Marshall Islands Republic; Esrange, Kiruna, Sweden; and the Norwegian Rocket Range, Andøya, Norway. In the past, temporary launch sites have included Australia, Brazil, Greenland, and Puerto Rico. The majority of sounding rocket launches occur at WSMR, WFF, and PFRR.

Where the SRP conducts its work is highly dependent on the scientific goals of each mission. For example, if equatorial phenomena must be observed, a site such as Brazil is used. For middle latitudes, Wallops Island, Virginia, or White Sands, New Mexico, are selected. If the aurora borealis must be observed, a northern latitude is required, such as at PFRR.

PFRR Background

The PFRR, located northeast of the unincorporated village of Chatanika, Alaska, consists of approximately 2,100 hectares (5,200 acres) of land that house rocket and payload support facilities, launch pads, and tracking infrastructure. Since the late 1960s, NASA, other government agencies, and educational institutions have supported suborbital rocket launches from the PFRR. While the PFRR is owned and managed by the Geophysical Institute of UAF, the NASA SRP has exclusively funded and managed the support contract with PFRR for more than 25 years.

The northern location of the PFRR is strategic for launching sounding rockets for scientific research in auroral space physics and earth science. The PFRR is the only high-latitude, auroral-zone rocket launching facility in the United States where a sounding rocket can readily study the aurora borealis and the sun-Earth connection. Recent Earth science-based missions have furthered the understanding of ozone depleting substances in the upper atmosphere. Such studies are critical for the continual refinement of theories and research on the topics of ozone depletion, global warming, and climate change. Recent space physics-focused missions have measured the upper atmospheric winds and auroras in the ionosphere. The information collected further assists the nation's scientists in understanding the interactions between the sun and Earth as well as the origin and evolution of the solar system. Technology development and validation enabled by the SRP at the PFRR is critical in furthering the development of Earth and space science instruments at a fraction of the size and cost that would result from using other launch methods. The PFRR facility also supports educational outreach programs where students and scientists from various universities are able to conduct aeronautics and space research.

Additionally, from an operational perspective, PFRR is an ideal location for sounding rocket missions. Directly north (downrange) from the launch site are vast areas of open, very sparsely populated lands of interior Alaska and the Arctic Ocean to the extreme north. Having the ability to launch rockets over such a vast area with very low population density is critical to ensuring public safety.

Existing SRP NEPA Documents and Context

In 2000, NASA published a Final Supplemental EIS (FSEIS) for the SRP. The 2000 FSEIS considered SRP operations at a programmatic level and expanded upon the original SRP EIS prepared in 1973, to include multiple launch sites, new launch vehicles, and updated environmental conditions. In its Record of Decision for the 2000 FSEIS, NASA decided to continue SRP operations at its current level of effort at all launch sites, including PFRR. Since then, NASA has launched approximately four (4) sounding rockets annually from PFRR primarily during the winter months. It is expected that this launch rate at PFRR would continue to satisfy NASA's needs into the reasonably foreseeable future.

NASA recently reviewed its 2000 SRP FSEIS and determined that the overall environmental analysis in the 2000 SRP FSEIS remains sufficient to support the Agency's broad programmatic decision to continue the SRP, however potential changes in both PFRR operations and the environmental context of the launch corridor north of PFRR warrant preparation of additional PFRR-specific environmental analysis to better inform Agency decisions regarding PFRR. For example, PFRR is now considering a more rigorous rocket and payload recovery process. Additionally, a large portion of downrange lands are undergoing wilderness review, which could ultimately affect how rocket and payload recoveries are handled.

Accordingly, NASA began the preparation of an Environmental Assessment to determine if those changes presented potentially a significant impact necessitating an EIS. During the scoping process for the EA in the fall of 2010, NASA solicited input from over 75 potentially interested agencies and organizations. A number of conservation organizations expressed concern regarding NASA's continued operations at PFRR and requested that a more detailed assessment be performed. As such, NASA decided that an EIS would be the most appropriate level of NEPA documentation for the proposal. The subject EIS will tier from the programmatic 2000 FSEIS and provide a focused analysis of SRP operations at PFRR.

Cooperating Agency Actions

The PFRR EIS will serve as a decision-making tool not only for NASA but also for its two Federal Cooperating Agencies, BLM and USFWS. Directly north of the PFRR facility are its downrange flight zones, over which rockets are launched and within which spent stages and payloads impact the ground. Within these flight zones are landmasses owned or managed by several Federal, State and Native Alaskan organizations, including the USFWS, BLM, Alaska Department of Natural Resources, Doyon Regional Corporation, and the Native Village of Venetie Tribal Government. More specifically, the subject Federal lands within the PFRR flight corridor are BLM's North Steese Conservation Area and White Mountain National Recreational Area, and the UFWS-managed Arctic and Yukon Flats National Wildlife Refuges (NWRs). Historically, the managing entities have issued UAF annual or multi-year special-use authorizations and agreements for impact of rockets and recovery operations on these lands. BLM and USFWS are currently considering if and how future authorizations for rocket landing and recovery would be issued for the properties under their management. Additionally, both agencies are currently preparing long-term management plans for their respective landholdings. BLM is currently drafting its Eastern Interior Resource Management Plan; Arctic NWR is currently updating its Comprehensive Conservation Plan (CCP); and the revision of the Yukon Flats NWR CCP is expected to begin within the next two years. The results of these planning processes will play a significant role in how future launches from PFRR would occur. As such, the PFRR EIS will consider the effects of each agency's respective permitting actions within the context of their long-term management objectives.

Alternatives

The EIS will consider a range of alternatives that meet NASA's needs for obtaining the requisite earth and space science data afforded by high-latitude sounding rocket launches in support of both NASA's science and educational missions.

Alternatives currently being considered for evaluation in the EIS include:

• Continuing the SRP in its present form and at the current level of effort;

• Continuing SRP launches from PFRR within the existing flight zones with differing requirements for identification and recovery of spent stages and payloads;

• Modifying the trajectories of the existing flight zones; and

• Conducting a subset of launches at other high-latitude launch sites, thereby avoiding the federally-managed lands.

The No Action Alternative is to discontinue sounding rocket launches from PFRR. NASA anticipates that the areas of potential environmental impact from each alternative of most interest to the public will be: The effects of rocket and payload landing and recovery on special interest lands (including Wilderness Areas and Wild Rivers), considerations to ensure public safety during rocket flight, and potential effects on subsistence uses on lands within the flight zones.

Scoping Meetings

NASA and its Cooperating Agencies plan to hold three public scoping meetings to provide information on the PFRR EIS and to solicit public comments regarding environmental concerns and alternatives to be considered in the EIS. The public scoping meetings are scheduled as follows:

—Friday, April 29, 2011, at the Tribal Hall, Third and Alder Streets, Fort Yukon, Alaska, 1 p.m.-4 p.m.

—Monday, May 2, 2011, at the University of Alaska-Fairbanks, William R. Wood Student Center, 505 South Chandalar Drive, Fairbanks, Alaska, 2 p.m.-4 p.m.

—Monday, May 2, 2011, at the Pioneer Park, Blue Room, 2300 Airport Way, Fairbanks, Alaska, 6 p.m.-8 p.m.

—Tuesday, May 3, 2011, at the United States Fish and Wildlife Service Alaska Regional Office, Gordon Watson Conference Room, 1011 East Tudor Road, Anchorage, Alaska, 2 p.m.-4 p.m. and 6 p.m.-8 p.m.

As the EIS is prepared, the public will be provided several opportunities for involvement, the first of which is during scoping. Even if an interested party does not have input at this time, other avenues, including reviews of the Draft and Final EIS, will be offered in the future. The availability of these documents will be published in the Federal Register and through local news media to ensure that all members of the public have the ability to actively participate in the NEPA process.

In conclusion, written public input on alternatives and environmental issues and concerns associated with NASA's SRP launches at PFRR that should be addressed in the EIS are hereby requested.

Olga M. Dominguez,
Assistant Administrator, Office of Strategic Infrastructure.

[FR Doc. 2011-8844 Filed 4-12-11; 8:45 am]

BILLING CODE 7510-13-P